DEPARTMENT OF THE TREASURY

Proposed Collection; Comment Request

AGENCY: Financial Crimes Enforcement Network (“FinCEN”), Treasury.

ACTION: Notice and request for comments.

SUMMARY: In order to comply with the requirements of the Paperwork Reduction Act of 1995, concerning proposed extensions of information collection requirements, FinCEN is soliciting comments concerning Internal Revenue Service (“IRS”) Form 8852, Currency Transaction Report by Casinos—Nevada (“CTRC-N”), which is filed for currency transactions conducted by, at, or through Nevada casinos.

DATES: Written comments must be received on or before September 5, 2000.

ADDRESSES: Direct all written comments to the Financial Crimes Enforcement Network, Office of Compliance and Regulatory Enforcement, Attn.: CTRC-N Comments, Suite 200, 2070 Chain Bridge Road, Vienna, VA 22182-2536.

FOR FURTHER INFORMATION CONTACT: Requests for additional information or for a copy of the form should be directed to Leonard Senia, Regulatory Program Specialist (Team Leader), Office of Compliance and Regulatory Enforcement, (202) 354-6412, or; Stacie A. Larson, Office of Chief Counsel, (703) 905-3590. A copy of the CTRC-N form, as well as all other forms required by the Bank Secrecy Act, can be obtained through the Internet at http://www.irs.ustreas.gov/prod/forms-pubs/forms.html. (Also, comments maybe submitted by electronic mail to the following Internet address: “regscomments@fincen.treas.gov” with the caption in the body of the text, “Attention: PRA Comments—CTRC-N.”)

SUPPLEMENTARY INFORMATION: The Bank Secrecy Act (Titles I and II of Public Law 91-508), as amended, codified at 12 U.S.C. 1829b, 12 U.S.C. 1951-1959, and 31 U.S.C. 5311-5314, 5316-5330, authorizes the Secretary of the Treasury, inter alia, to issue regulations requiring records and reports that are determined to have a high degree of usefulness in criminal, tax, and regulatory matters. Regulations implementing Title II of the Bank Secrecy Act, codified at 31 U.S.C. 5311-5314, 5316-5330, appear at 31 CFR Part 103. The authority of the Secretary to administer the Bank Secrecy Act regulations has been delegated to the Director of FinCEN.

Section 5313(a) authorizes the Secretary to issue regulations that require a report when “a domestic financial institution is involved in a transaction for the payment, receipt, or transfer of United States coins or currency (or other monetary instruments the Secretary of the Treasury prescribes), in an amount, denomination, or amount and denomination, or under circumstances the Secretary prescribes.” Regulations implementing section 5313(a) are found at 31 CFR 103.22 and 31 CFR 103.45(c)(2)(ii). In general, the regulations require the reporting of transactions in currency in excess of $10,000 a day. Casinos as defined in 31 U.S.C. 5312(a)(2)(X) and 31 CFR 103.11(n)(7)(i) are financial institutions subject to the currency transaction reporting requirement. Card clubs, as defined in 31 CFR 103.11(n)(8)(i), are casinos subject to currency transaction reporting. (See 63 FR 1919, January 13, 1998.)

The Currency Transaction Report by Casinos—Nevada, IRS Form 8852, is the form Nevada casinos use to comply with the currency transaction reporting requirements. Form 8852 was designed to take into account, among other things, that Nevada Regulation 6A, “Cash Transactions Prohibitions, Reporting and Recordkeeping” prohibits Nevada casinos from conducting some of the transaction types reportable on IRS Form 8362, Currency Transaction Report by Casinos.

Information collected on the CTRC-N is made available, in accordance with strict safeguards, to appropriate criminal law enforcement and regulatory personnel in the official performance of their duties. The information collected is used for regulatory purposes and in investigations involving international and domestic money laundering, tax violations, fraud, and other financial crimes.

This notice proposes no changes to the current text of the Form 8852 or its instructions.

In accordance with requirements of the Paperwork Reduction Act of 1995, 44 U.S.C. 3506(c)(2)(A), and its implementing regulations, 5 CFR 1320, the following information concerning the collection of information on Form 8852 is presented to assist those persons wishing to comment on the information collection. (Since the number of respondents has increased mostly because of new Nevada casinos that have opened for business during 1998 and 1999, the estimates below are based on 1999 filings of Nevada CTRC-Ns.)

Title: Currency Transaction Report by Casinos—Nevada.

Form Number: IRS Form 8852.

OMB Number: 1506-0003.

Description of Respondents: All Nevada casinos, with gross annual gaming revenue in excess of $10 million and having an annual table games statistical win in excess of $2 million.

Estimated Number of Respondents: 110.

Estimated Number of Annual Responses: 128,000.

Frequency: As required.

Estimate of Burden: Reporting average of 19 minutes per response; recordkeeping average of 5 minutes per response.

Estimate of Total Annual Burden on Respondents: Reporting burden estimate = 40,533 hours; recordkeeping burden estimate = 10,667 hours. Estimated combined total of 51,200 hours.

Estimate of Total Annual Cost to Respondents for Hour Burdens: Based on $20 per hour, the total cost to the public is estimated to be $1,024,400.

Estimate of Total Other Annual Costs to Respondents: None.

Type of Request: Extension of a currently approved information collection.

Request for Comments

FinCEN specifically invites comments on the following subjects: (a) Whether the proposed collection of information is necessary for the proper performance of the mission of FinCEN, including whether the information shall have practical utility; (b) the accuracy of FinCEN's estimate of the burden of the proposed collection of information; (c) ways to enhance the quality, utility, and clarity of the information to be collected; and (d) ways to minimize the burden of the collection of information on respondents, including through the use of automated collection techniques or other forms of information technology.

In addition, the Paperwork Reduction Act of 1995 requires agencies to estimate the total annual cost burden to respondents or recordkeepers resulting from the collection of information. Thus, FinCEN also specifically requests comments to assist with this estimate. In this connection, FinCEN requests commenters to identify any additional costs associated with the completion of the form. These comments on costs should be divided into two parts: (1) Any additional costs associated with reporting; and (2) any additional costs associated with recordkeeping.

Responses to the questions posed by this notice will be summarized and included in the request for Office of Management and Budget approval. All comments will become a matter of public record.

Dated: June 27, 2000.
James F. Sloan,
Director, Financial Crimes Enforcement Network.

[FR Doc. 00-17007 Filed 7-5-00; 8:45 am]

BILLING CODE 4820-03-U